DEPARTMENT OF JUSTICE

Notice of Lodging Proposed Consent Decree

In accordance with Departmental Policy, 28 CFR 50.7, notice is hereby given that a proposed consent decree in United States v. Robert Hummel, et al., Case No. 00 C 5184, was lodged with the United States District Court for the Northern District of Illinois on October 25, 2004. This proposed Consent Decree concerns a complaint filed by the United States against the Defendants pursuant to Section 301(a) of the Clean Water Act (“CWA”), 33 U.S.C. 1311(a), to obtain injunctive relief from and impose civil penalties against the Defendants for filling wetlands without a permit.

The proposed Consent Decree requires the defendants to: (1) pay a civil penalty, (2) remove and re-route a 500′ sewer line that was illegally placed through a wetland, and (3) restore the impacted wetland. The Department of Justice will accept written comments relating to this proposed Consent Decree for thirty (30) days from the date of publication of this notice. Please address comments to Kurt Lindland, Assistant United States Attorney, United States Attorney's Office, 5th Floor, 219 S. Dearborn Street, Chicago, Illinois 60604 and refer to United States v. Robert Hummel, et al. Case No. 00 C 5184, including the USAO #1999V011338.

The proposed Consent Decree may be examined at the Clerk's Office, United States District Court for the Northern District of Illinois, 219 S. Dearborn Street, Chicago, Illinois. In addition, the proposed Consent Decree may be viewed on the World Wide Web at http://www.usdoj.gov/enrd/open.html.

Kurt N. Lindland,
Assistant United States Attorney.

[FR Doc. 04-24592 Filed 11-3-04; 8:45 am]

BILLING CODE 4410-15-M